DEPARTMENT OF THE INTERIOR

Bureau of Ocean Energy Management

[Docket No. BOEM-2012-0009]

Commercial Renewable Energy Transmission on the Outer Continental Shelf (OCS) Offshore Rhode Island, Notice of Proposed Grant Area and Request for Competitive Interest (RFCI) in the Area of the Deepwater Wind Block Island Transmission System Proposal

AGENCY: Bureau of Ocean Energy Management, Department of the Interior.

ACTION: Public Notice of an Unsolicited Request for a Transmission Cable Right-of-Way Grant Supporting Renewable Energy, Request for Submission of Indications of Competitive Interest, and Request for Public Comment.

SUMMARY: The purpose of this public notice is to: (1) Describe the Deepwater Wind Block Island LLC (Deepwater Wind) Transmission System (BITS) proposal submitted to the Bureau of Ocean Energy Management (BOEM); (2) solicit submissions of indications of competitive interest for a right-of-way (ROW) grant for renewable energy purposes for the area identified in this notice; and (3) solicit public input regarding the proposal, its potential environmental consequences, and other uses of the area in which the proposal would be located.

On November 30, 2011, BOEM received an application from Deepwater Wind for a ROW grant on the OCS offshore Rhode Island. Deepwater Wind's proposed project, the BITS, would entail the construction and installation of a bi-directional submerged transmission cable between Block Island and the Rhode Island mainland. Deepwater Wind has requested a ROW grant for the portion of the BITS cable that is proposed on the OCS. Deepwater Wind proposes that the BITS would serve two purposes: (1) Transmit electrical power from Deepwater Wind's proposed 30 megawatt (MW) offshore wind energy project located in Rhode Island State waters off Block Island to the Rhode Island mainland; and (2) transmit electrical power from the existing transmission grid on the Rhode Island mainland to Block Island.

This RFCI is published pursuant to subsection 8(p)(3) of the OCS Lands Act, as amended by section 388 of the Energy Policy Act of 2005 (EPAct) (43 U.S.C. 1337(p)(3)), and the implementing regulations at 30 CFR part 585. Subsection 8(p)(3) of the OCS Lands Act requires that OCS renewable energy leases, easements, and rights-of-way be issued “on a competitive basis unless the Secretary determines after public notice of a lease, easement, or right-of-way that there is no competitive interest.” This RFCI provides such public notice for the proposed ROW grant area requested by Deepwater Wind and invites the submission of indications of competitive interest. BOEM will consider the responses to this public notice to determine whether competitive interest exists for the area requested by Deepwater Wind, as required by 43 U.S.C. 1337(p)(3). Parties wishing to obtain a grant for the area requested by Deepwater Wind should submit detailed and specific information as described in the section entitled, “Required Indication of Interest Information.” This announcement also requests that interested and affected parties comment and provide information about site conditions and existing and future uses of the area identified in this notice that would be relevant to the proposed project or its impacts. The information that BOEM is requesting is described in the section entitled, “Requested Information from Interested or Affected Parties.”

DATES: If you are submitting an indication of interest in acquiring a ROW grant for the area requested by Deepwater Wind, your submission must be sent by mail, postmarked no later than June 22, 2012 for your submission to be considered. If you are providing comments or other submissions of information, you may send them by mail, postmarked by this same date, or you may submit them through the Federal Rulemaking Portal at http://www.regulations.gov, also by this same date.

Submission Procedures: If you are submitting an indication of competitive interest for a ROW grant, please submit it by mail to the following address: Bureau of Ocean Energy Management, Office of Renewable Energy Programs, 381 Elden Street, HM 1328, Herndon, Virginia 20170. Submissions must be postmarked by June 22, 2012 to be considered by BOEM for the purposes of determining competitive interest. In addition to a paper copy of your submission, include an electronic copy on a compact disc. BOEM will list the parties that submit indications of competitive interest in the area requested by Deepwater Wind on the BOEM Web site after the 30-day comment period has closed.

If you are submitting comments and other information concerning the proposed grant area, you may use either of the following two methods:

1. Federal eRulemaking Portal: http://www.regulations.gov. In the entry titled “Enter Keyword or ID,” enter BOEM-2012-0009, and then click “search.” Follow the instructions to submit public comments and view supporting and related materials available for this notice.

2. Alternatively, comments may be submitted by mail to the following address: Bureau of Ocean Energy Management, Office of Renewable Energy Programs, 381 Elden Street, HM 1328, Herndon, Virginia 20170.

If you wish to protect the confidentiality of your submissions or comments, clearly mark the relevant sections and request that BOEM treat them as confidential. Please label privileged or confidential information “Contains Confidential Information” and consider submitting such information as a separate attachment. Treatment of confidential information is addressed in the section of this notice entitled, “Privileged or Confidential Information.” BOEM will post all comments on regulations.gov unless labeled as confidential. Information that is not labeled as privileged or confidential will be regarded by BOEM as suitable for public release.

FOR FURTHER INFORMATION CONTACT: Ms. Jessica Bradley, Project Coordinator, BOEM, Office of Renewable Energy Programs, 381 Elden Street, HM 1328, Herndon, Virginia 20170, (703) 787-1300.

SUPPLEMENTARY INFORMATION:

Purpose of the RFCI

Responses to this public notice will allow BOEM to determine, pursuant to 30 CFR 585.306, whether or not there is competitive interest in acquiring the ROW area requested by Deepwater Wind as described in this notice. In addition, this notice provides an opportunity for interested stakeholders to provide comments on the Deepwater Wind ROW request, including information relating to potential environmental consequences.

If, in response to this notice, BOEM receives one or more indications of competitive interest for offshore transmission development from qualified entities that wish to compete for the proposed BITS ROW grant area, it may decide to move forward with the ROW grant issuance process using competitive procedures pursuant to 30 CFR Part 585. However, if BOEM receives no qualified competing indications of interest, BOEM may decide to move forward with the ROW grant issuance process using the noncompetitive procedures contained in 30 CFR Part 585. Should BOEM decide to issue a ROW grant in the area, whether competitively or non-competitively, it may provide the public with additional opportunities to comment.

Background

Energy Policy Act of 2005 (EPAct)

The EPAct amended the OCS Lands Act by adding subsection 8(p), which authorizes the Secretary of the Interior to grant leases, easements, and ROWs on the OCS for activities that are not otherwise authorized by law and that produce or support production, transportation, or transmission of energy from sources other than oil or gas. The EPAct also required the issuance of regulations to carry out the new authority pertaining to renewable energy on the OCS. The Secretary delegated this authority to issue leases, easements, and ROWs, and to promulgate regulations, to the Director of BOEM. On April 29, 2009, BOEM promulgated renewable energy regulations, at 30 CFR Part 585, which can be found at: http://www.boem.gov/uploadedFiles/FinalRenewableEnergyRule.pdf.

Executive Order 13547: Stewardship of the Ocean, Our Coasts, and the Great Lakes

In July 2010, the President signed an Executive Order (EO) establishing the National Ocean Council. The EO establishes a comprehensive, integrated national policy for the stewardship of the oceans, our coasts and the Great Lakes. Where BOEM actions affect the ocean, the EO requires BOEM to take such action as necessary to implement this policy, the stewardship principles and national priority objectives adopted by the EO, and guidance from the National Ocean Council.

BOEM appreciates the importance of coordinating its planning endeavors with other OCS users and regulators and intends to follow the ecosystem-based management principles of coastal and marine spatial planning, and coordinate with the regional planning bodies as established by the National Ocean Council to inform its leasing processes. BOEM anticipates that continued coordination with the BOEM State Renewable Energy Intergovernmental Task Forces will help inform comprehensive coastal and marine spatial planning efforts.

BOEM Rhode Island Renewable Energy Intergovernmental Task Force

BOEM established the BOEM Rhode Island Renewable Energy Intergovernmental Task Force (Task Force) in November 2009, at the request of the Governor, to facilitate coordination among affected Federal agencies and state, local, and tribal governments relating to renewable energy development on the OCS offshore Rhode Island. BOEM has coordinated with the Task Force on potential commercial wind energy development within an Area of Mutual Interest established through a July 2010 Memorandum of Understanding between the Governors of Rhode Island and Massachusetts. BOEM coordination efforts to date with the Task Force and meeting materials are available on the BOEM Web site at: http://www.boem.gov/Renewable-Energy-Program/State-Activities/Rhode-Island.aspx.

Determination of Competitive Interest and Granting Process

BOEM will evaluate indications of competitive interest for the ROW grant area requested by Deepwater Wind to install cables for the transmission of electricity and will determine whether there is competitive interest in accordance with 30 CFR 585.307. At the conclusion of the comment period for this public notice, BOEM will review the submissions received and undertake a completeness review and a qualification review to make this required determination.

Under BOEM's regulations at 30 CFR 585.302(b)(1), the rights accorded in a ROW grant do not prevent the issuance of other rights in the same area, provided that any subsequent ROW grant issued by BOEM in the area of a previously-issued ROW grant does not unreasonably interfere with activities approved under the previously-issued ROW grant. BOEM may find that competitive interest exists if it receives a proposal to acquire an OCS ROW grant that matches the proposed grant area.

If BOEM determines that competitive interest exists, it may decide to proceed with the competitive granting process outlined in 30 CFR 585.308. If BOEM determines that there is no competitive interest in the proposed grant area, it will publish in the Federal Register a notice that there is no competitive interest. At that point BOEM may decide to proceed with the noncompetitive grant issuance process pursuant to 30 CFR 585.306(b), and Deepwater Wind would be required to submit a General Activities Plan (GAP). Whether following competitive or noncompetitive procedures, BOEM will consult with the Task Force and will comply with all applicable requirements prior to making a decision on whether or not to issue a grant and/or GAP approval, disapproval, or approval with modifications. BOEM would coordinate and consult, as appropriate, with relevant Federal agencies, affected tribes, and affected state and local governments, in issuing a grant and developing grant terms and conditions.

Environmental Review Process

The U.S. Army Corps of Engineers (USACE) New England District and BOEM both have jurisdiction by law for portions of the BITS. The BITS would support Deepwater Wind's proposed Block Island Wind Farm (BIWF), a proposed 30 MW offshore wind energy project located in Rhode Island State waters approximately 2.5 nautical miles (nmi) southeast of Block Island. Since the majority of the activities and permanent structures related to the BIWF and the BITS will be sited in state waters and on state lands, the USACE will be the lead agency for the NEPA environmental analysis of both projects. BOEM has jurisdiction for the portion of the BITS that will be located on the OCS, for which it requires issuance of a ROW grant, and will be a cooperating agency in the NEPA process led by the USACE. BOEM will consider all relevant information produced from the NEPA process and, if appropriate, adopt the USACE's NEPA document prior to the issuance of any ROW grant.

BOEM and the USACE intend to conduct consultations required by Federal law jointly during the NEPA process. These consultations include, but are not limited to, those required by the CZMA, the ESA, the Magnuson-Stevens Fishery Conservation and Management Act, the NHPA, and Executive Order 13175—“Consultation and Coordination with Tribal Governments.”

Description of the Proposal

Deepwater Wind proposes to construct and install a 34.5-kilovolt (kV) alternating current (AC) bi-directional submerged transmission cable between Block Island and the Rhode Island mainland. Deepwater Wind proposes that the BITS would: (1) Transmit electrical power from Deepwater Wind's proposed BIWF to the Rhode Island mainland; and (2) transmit electrical power from the existing transmission grid on the Rhode Island mainland to Block Island. Deepwater Wind proposes to connect an onshore substation on Block Island (New Shoreham, Rhode Island) northeast approximately 19.2 nmi to an onshore substation in South Kingstown, Rhode Island, or an additional approximately 7 nmi to an onshore substation in Narragansett, Rhode Island. Deepwater Wind is requesting a ROW grant for a 200-foot corridor associated with an 8 nmi portion of the BITS that is on the OCS.

All cables would be installed in a manner that considers factors such as the type of seafloor (hard bottom or soft bottom), the potential presence of sandwaves and sediment megaripples, and the marine uses that take place in a given cable area.

Description of the Proposed Grant Area

The area under consideration is located on the OCS off the coast of Rhode Island, between Block Island and the mainland. A ROW grant is a corridor 200 feet in width centered on the cable or pipeline (30 CFR 585.301). The area requested crosses the following portions of the following OCS blocks in Official Protraction Diagram Providence NK 19-07:

Block No. | Sub block
6711 | H,L,P.
6761 | D,H,K,L,N,O.
6810 | A,B,E.
6811 | G,H,K,L.

We request public comments and indications of competitive interest in the actual ROW grant area requested. The ROW grant area requested by Deepwater Wind consists of an area 100 feet to either side of the centerline. The centerline of the ROW can be determined by interconnecting the points indicated by the centerline coordinates. This area may be adjusted based on the results of future surveys or new information obtained from stakeholder outreach and public input. Coordinates for the centerline follow an order from north to south (points 1-27) and are provided in X, Y (eastings, northings) UTM Zone 18N, NAD 83 and geographic (longitude, latitude), NAD83.

Point number | UTM X (easting) | UTM Y (northing) | Longitude | Latitude
1 | 297579.86 | 4577806.25 | −71.418731 | 41.326331
2 | 297764.90 | 4576627.63 | −71.416129 | 41.315771
3 | 297948.74 | 4575456.74 | −71.413546 | 41.305279
4 | 297948.90 | 4575455.09 | −71.413543 | 41.305264
5 | 297962.50 | 4575166.08 | −71.413285 | 41.302667
6 | 297976.03 | 4574878.48 | −71.413028 | 41.300082
7 | 297976.04 | 4574877.33 | −71.413028 | 41.300071
8 | 297960.78 | 4574347.66 | −71.413034 | 41.295301
9 | 297945.47 | 4573816.13 | −71.413040 | 41.290513
10 | 297945.18 | 4573813.60 | −71.413043 | 41.290490
11 | 297888.18 | 4573526.78 | −71.413628 | 41.287895
12 | 297831.47 | 4573241.41 | −71.414210 | 41.285312
13 | 297831.38 | 4573241.03 | −71.414211 | 41.285309
14 | 297792.88 | 4573070.56 | −71.414614 | 41.283765
15 | 297754.21 | 4572899.35 | −71.415018 | 41.282214
16 | 297753.91 | 4572898.25 | −71.415021 | 41.282204
17 | 297700.90 | 4572725.11 | −71.415596 | 41.280633
18 | 297647.43 | 4572550.46 | −71.416176 | 41.279048
19 | 297646.70 | 4572548.55 | −71.416184 | 41.279030
20 | 297517.00 | 4572266.46 | −71.417638 | 41.276459
21 | 297387.73 | 4571985.30 | −71.419087 | 41.273896
22 | 297387.72 | 4571985.28 | −71.419087 | 41.273896
23 | 297197.85 | 4571573.97 | −71.421215 | 41.270147
24 | 297006.74 | 4571159.97 | −71.423357 | 41.266373
25 | 297003.33 | 4571155.24 | −71.423396 | 41.266330
26 | 294240.98 | 4568561.35 | −71.455469 | 41.242287
27 | 291458.78 | 4565948.75 | −71.487750 | 41.218063

The following multiple use issues were identified through consultation with the Task Force:

The Department of Defense (DoD) conducts offshore testing, training, and operations on the OCS. BOEM will consult with the DoD on all proposed ROW grant projects to ensure that projects are compatible with DoD activities on the OCS. The U.S. Navy operates the Narragansett Bay Operating Area which overlaps portions of the proposed ROW grant area. The Naval Undersea Warfare Center (NUWC) also uses a restricted area located adjacent to the proposed ROW grant area as a testing area. The restricted area begins within the northern precautionary area approach to Narragansett Bay and extends south, coinciding with the Traffic Separation Scheme (TSS) as indicated on NOAA nautical chart 13218 (Martha's Vineyard to Block Island). The proposed ROW grant area does not cross the testing area. However, due to the close proximity of the proposed ROW grant area to the testing area and the Outbound Traffic Lane of the Narragansett Bay TSS, we welcome input concerning ways to coordinate cable installation and maintenance activities in the proposed ROW area in a manner that eliminates or reduces conflicts with NUWC testing and shipping in the vicinity to the extent that such conflicts exist.

The Rhode Island Ocean Special Area Management Plan (SAMP) has identified portions of the proposed ROW grant area as important for commercial and recreational fishing activities, as well as important marine fish habitat. Specifically, the SAMP identified the area as important for a range of commercial fishing activities, including scallop dredging, gillnetting, lobster trapping, bottom trawling and recreational activities. Specific information on fishery resources, fishing activities and important marine habitats can be found at: http://www.crmc.ri.gov/samp_ocean.html.

There are several species of birds, marine mammals, sea turtles, and fish in the area off Rhode Island that are listed as threatened or endangered under the jurisdiction of the U.S. Fish and Wildlife Service or the NOAA National Marine Fisheries Service (NMFS). Such species may occur permanently or seasonally in the proposed ROW grant area. In addition to ESA-listed species, seabirds protected under the Migratory Bird Treaty Act and marine mammals protected under the Marine Mammal Protection Act may occur in the area. NMFS has not designated any ESA critical habitat within the proposed ROW grant area. Information on essential fish habitat and protected species within the proposed ROW grant area as designated under the Magnuson-Stevens Fishery Conservation and Management Act can be found at: http://www.nero.noaa.gov/hcd/and http://www.nero.noaa.gov/prot_res/.

Map of the Area

A map of the area proposed for a ROW grant can be found at the following URL: http://www.boem.gov/Renewable-Energy-Program/State-Activities/Rhode-Island.aspx.

A large scale map of the RFCI area showing boundaries of the area is available from BOEM at the following address: Bureau of Ocean Energy Management, Office of Renewable Energy Programs, 381 Elden Street, HM 1328, Herndon, Virginia 20170, Phone: (703) 787-1300, Fax: (703) 787-1708.

Required Indication of Interest Information

If you intend to submit an indication of competitive interest for a ROW grant for the area identified in this notice for the purposes of transmitting electricity supporting renewable energy, you must provide the following:

(1) Documentation demonstrating that you are legally qualified to hold a ROW grant as set forth in 30 CFR 585.106-107. Guidance and examples of the documentation appropriate for demonstrating your legal qualifications can be found in Chapter 2 and Appendix B of the BOEM Renewable Energy Framework Guide Book available at: http://www.boemre.gov/offshore/renewableenergy/PDFs/REnGuidebook_03August2009_3_.pdf.

Legal qualification documents will be placed in an official file that may be made available for public review. If you wish that some part of your legal qualification documentation be kept confidential, clearly identify what should be kept confidential, and submit it under separate cover (see Protection of Privileged or Confidential Information Section, below).

(2) Documentation demonstrating that you are technically and financially qualified to hold a lease as set forth in 30 CFR 585.106-107, including documentation demonstrating that you are technically and financially capable of constructing, operating, maintaining, and decommissioning the facilities described in (4), below. Guidance regarding the documentation that you may submit to demonstrate your technical and financial qualifications can be found at: http://www.boemre.gov/offshore/RenewableEnergy/PDFs/QualificationGuidelines.pdf.

(3) A statement that you wish to acquire a renewable energy ROW grant for the proposed grant area requested by Deepwater Wind for the BITS project and a description of how your proposal would interfere with, or suffer interference from, the BITS proposed project. Any request for a ROW grant located outside of the proposed grant area should be submitted separately pursuant to 30 CFR 585.305.

(4) A description of your objectives, including:

• Devices and infrastructure involved (if your project would require the use of offshore platforms, please indicate where those platforms would be located);

• Anticipated capacity;

• How the project would support renewable energy; and

• A statement that the proposed activity conforms with state and local energy planning requirements, initiatives or guidance, as applicable.

(5) A schedule of proposed activities, including those leading to commercial operations; and;

(6) Available and pertinent data and information concerning environmental conditions in the area, including any energy and resource data and information used to evaluate the area. Where applicable, spatial information should be submitted in a format compatible with ArcGIS 9.3 in a geographic coordinate system (NAD 83).

Your complete submission, including the items identified in (1) through (6) above, must be provided to BOEM in both paper and electronic formats. BOEM considers an Adobe PDF file stored on a compact disc (CD) to be an acceptable format for submitting an electronic copy.

It is critical that you provide a complete submission of competitive interest so that BOEM may consider your submission in a timely manner. If BOEM reviews your submission and determines that it is incomplete, BOEM will inform you of this determination in writing and describe the information that BOEM wishes you to provide in order for BOEM to deem your submission complete. You will be given 15 business days from the date of the letter to provide the information that BOEM found to be missing from your original submission. If you do not meet this deadline, or if BOEM determines your second submission is also insufficient, BOEM reserves the right to deem your submission invalid. In such a case, BOEM would not consider your submission.

Requested Information From Interested or Affected Parties

BOEM is also requesting from the public and other interested or affected parties specific and detailed comments regarding the following:

(1) Geological and geophysical conditions (including bottom and shallow hazards) in the area described in this notice;

(2) Known archaeological, historic, and/or cultural resource sites on the seabed in the area described in this notice;

(3) Multiple uses of the area described in this notice, including navigation (in particular, commercial and recreational vessel usage, and commercial and recreational fisheries);

(4) Potential impacts to existing communication cables;

(5) Department of Defense operational, training and testing activities (surface and subsurface) that occur in the area described in this notice that may be impacted by the proposed project;

(6) Impacts to potential future uses of the area;

(7) Advisable setback distance for other offshore structures, including other cables, renewable energy structures, oil and gas structures, etc.;

(8) The potential risk posed by anchors or other factors, and burial depths that would be required to mitigate such risks;

(9) Other relevant environmental and socioeconomic information.

Protection of Privileged or Confidential Information

Freedom of Information Act

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information, “Contains Confidential Information,” and consider submitting such information as a separate attachment.

However, BOEM will not treat as confidential any aggregate summaries of such information or comments not containing such information. Additionally, BOEM will not treat as confidential: (1) The legal title of the nominating entity (for example, the name of your company); or (2) the geographic location of nominated facilities and the types of those facilities. Information that is not labeled as privileged or confidential will be regarded by BOEM as suitable for public release.

National Historic Preservation Act (16 U.S.C. 470w-3(a))

BOEM is required, after consultation with the Secretary, to withhold the location, character, or ownership of historic resources if it determines that disclosure may, among other things, risk harm to the historic resources or impede the use of a traditional religious site by practitioners. Tribal entities should designate information that falls under Section 304 of NHPA as confidential.

Dated: May 10, 2012.
Tommy P. Beaudreau,
Director, Bureau of Ocean Energy Management.

[FR Doc. 2012-12485 Filed 5-22-12; 8:45 am]

BILLING CODE 4310-MR-P